DEPARTMENT OF LABOR

Employment and Training Administration

Amended Certification Regarding Eligibility To Apply for Worker Adjustment Assistance

TA-W-72,251

SUPERVALU, Inc. IT and Finance Departments Including Workers Whose Unemployment Insurance (UI) Wages are Paid Through New Albertsons, Inc., and American Drug Stores LLC Including on-site Leased Workers from Volt Services Group Boise, Idaho

TA-W-72,251A

SUPERVALU, Inc. Formerly Known as New Albertsons IT and Finance Departments Including Workers Whose Unemployment Insurance (UI) Wages are Paid Through New Albertsons, Inc., and American Drug Stores LLC Salt Lake, Utah

TA-W-72,251B

SUPERVALU, Inc. IT and Finance Departments Including Workers Whose Unemployment Insurance (UI) Wages are Paid Through New Albertsons, Inc., and American Drug Stores LLC Franklin Park, Illinois

TA-W-72,251C

SUPERVALU, Inc. IT and Finance Departments Including Workers Whose Unemployment Insurance (UI) Wages are Paid Through New Albertsons, Inc., and American Drug Stores LLC Milford, Ohio

TA-W-72,251D

SUPERVALU, Inc. IT and Finance Departments Including Workers Whose Unemployment Insurance (UI) Wages are Paid Through New Albertsons, Inc., and American Drug Stores LLC Dublin, California

TA-W-72,251E

SUPERVALU, Inc. Formerly Known as New Albertsons IT and Finance Departments Including Workers Whose Unemployment Insurance (UI) Wages are Paid Through New Albertsons, Inc., and American Drug Stores LLC Virginia Beach, Virginia

TA-W-72,251F

SUPERVALU, Inc. IT and Finance Departments Including Workers Whose Unemployment Insurance (UI) Wages are Paid Through New Albertsons, Inc., and American Drug Stores LLC Including on-site Leased Workers From Global Resources and Professional Employment Services Phoenix, Arizona

TA-W-72,251G

SUPERVALU, Inc. IT and Finance Departments Including Workers Whose Unemployment Insurance (UI) Wages are Paid Through New Albertsons, Inc., and American Drug Stores LLC Malvern, Pennsylvania

TA-W-72,251H

SUPERVALU, Inc. IT and Finance Departments Including Workers Whose Unemployment Insurance (UI) Wages are Paid Through New Albertsons, Inc., and American Drug Stores LLC Portland, Oregon

TA-W-72,251I

SUPERVALU, Inc. IT and Finance Departments Including Workers Whose Unemployment Insurance (UI) Wages are Paid Through New Albertsons, Inc., and American Drug Stores LLC Aurora, Colorado

TA-W-72,251J

SUPERVALU, Inc. IT and Finance Departments Including Workers Whose Unemployment Insurance (UI) Wages are Paid Through New Albertsons, Inc., and American Drug Stores LLC Lanham, Maryland

TA-W-72,251K

SUPERVALU, Inc. IT and Finance Departments Including Workers Whose Unemployment Insurance (UI) Wages are Paid Through New Albertsons, Inc., and American Drug Stores LLC Las Vegas, Nevada

TA-W-72,251L

SUPERVALU, Inc. IT and Finance Departments Including Workers Whose Unemployment Insurance (UI) Wages are Paid Through New Albertsons, Inc., and American Drug Stores LLC Spokane, Washington

TA-W-72,251M

SUPERVALU, Inc. IT and Finance Departments Including Workers Whose Unemployment Insurance (UI) Wages are Paid Through New Albertsons, Inc., and American Drug Stores LLC Fort Wayne, Indiana

TA-W-72,251N

SUPERVALU, Inc. IT and Finance Departments Including Workers Whose Unemployment Insurance (UI) Wages are Paid Through New Albertsons, Inc., and American Drug Stores, LLC West Bridgewater, Massachusetts

In accordance with Section 223 of the Trade Act of 1974, as amended (“Act”), 19 U.S.C. 2273, the Department of Labor issued a Certification of Eligibility to Apply for Worker Adjustment Assistance on January 15, 2010, applicable to workers of SUPERVALU, Inc., IT and Finance Departments, including leased workers from Volt Services Group, Boise, Idaho (TA-W-72,251); SUPERVALU, Inc., IT and Finance Departments, Salt Lake, Utah (TA-W-72,251A); SUPERVALU, Inc., IT and Finance Departments, Franklin Park, Illinois (TA-W-72,251B); SUPERVALU, Inc., IT and Finance Departments, Milford, Ohio (TA-W-72,251C); SUPERVALU, Inc., IT and Finance Departments, Dublin, California (TA-W-72,251D); SUPERVALU, Inc., IT and Finance Departments, Virginia Beach, Virginia (TA-W-72,251E); SUPERVALU, Inc., IT and Finance Departments, including leased workers from Global Resources and Professional Employment Services, Phoenix, Arizona (TA-W-72,251F); SUPERVALU, Inc., IT and Finance Departments, Malvern, Pennsylvania (TA-W-72,251G); SUPERVALU, Inc., IT and Finance Departments, Portland, Oregon (TA-W-72,251H); SUPERVALU, Inc., IT and Finance Departments, Aurora, Colorado (TA-W-72,251I); SUPERVALU, Inc., IT and Finance Departments, Lanham, Maryland (TA-W-72,251J); SUPERVALU, Inc., IT and Finance Departments, Las Vegas, Nevada (TA-W-72,251K); SUPERVALU, Inc., IT and Finance Departments, Spokane, Washington (TA-W-72,251L); SUPERVALU, Inc., IT and Finance Departments, Fort Wayne, Indiana (TA-W-72,251M); SUPERVALU, Inc., IT and Finance Departments, West Bridgewater, Massachusetts (TA-W-72,251N). The notice was published in the Federal Register on February 16, 2010 (75 FR 7037). The notice was amended on September 7, 2010 to include workers whose unemployment insurance (UI) wages are paid through New Albertsons, Inc. The notice was published in the Federal Register on September 21, 2010 (75 FR 57504-57505).

At the request of the State agency, the Department reviewed the certification for workers of the subject firm. The workers are engaged in employment related to the supply of information technology and finance services.

New information shows that American Drug Stores LLC is a wholly owned subsidiary of New Albertsons, Inc. Some workers separated from employment at the subject firms have their wages reported under separate unemployment insurance (UI) tax accounts under the names New Albertsons, Inc., and American Drug Stores LLC.

Accordingly, the Department is amending this certification to properly reflect this matter.

The intent of the Department's certification is to include all workers of the subject firm who were adversely affected by acquisition in services related to the supply of information technology and finance.

The amended notice applicable to TA-W-72,251 is hereby issued as follows:

All workers of SUPERVALU, Inc., IT and Finance Departments, including workers whose unemployment insurance (UI) wages are paid through New Albertsons, Inc., and American Drug Stores LLC, including leased workers from Volt Services Group, Boise, Idaho (TA-W-72,251); SUPERVALU, Inc., IT and Finance Departments, including workers whose unemployment insurance (UI) wages are paid through New Albertsons, Inc., and American Drug Stores LLC, Salt Lake, Utah (TA-W-72,251A); SUPERVALU, Inc., IT and Finance Departments, including workers whose unemployment insurance (UI) wages are paid through New Albertsons, Inc., and American Drug Stores LLC, Franklin Park, Illinois (TA-W-72,251B); SUPERVALU, Inc., IT and Finance Departments, including workers whose unemployment insurance (UI) wages are paid through New Albertsons, Inc., and American Drug Stores LLC, Milford, Ohio (TA-W-72,251C); SUPERVALU Inc., IT and Finance Departments, including workers whose unemployment insurance (UI) wages are paid through New Albertsons, Inc., and American Drug Stores LLC, Dublin, California (TA-W-72,251D); SUPERVALU, Inc., IT and Finance Departments, including workers whose unemployment insurance (UI) wages are paid through New Albertsons, Inc., and American Drug Stores LLC, Virginia Beach, Virginia (TA-W-72,251E); SUPERVALU, Inc., IT and Finance Departments, including workers whose unemployment insurance (UI) wages are paid through New Albertsons, Inc., and American Drug Stores LLC, including leased workers from Global Resources and Professional Employment Services, Phoenix, Arizona (TA-W-72,251F); SUPERVALU, Inc., IT and Finance Departments, including workers whose unemployment insurance (UI) wages are paid through New Albertsons, Inc., and American Drug Stores LLC, Malvern, Pennsylvania (TA-W-72,251G); SUPERVALU, Inc., IT and Finance Departments, including workers whose unemployment insurance (UI) wages are paid through New Albertsons, Inc., and American Drug Stores LLC, Portland, Oregon (TA-W-72,251H); SUPERVALU, Inc., IT and Finance Departments, including workers whose unemployment insurance (UI) wages are paid through New Albertsons, Inc., and American Drug Stores LLC, Aurora, Colorado (TA-W-72,251I); SUPERVALU, Inc., IT and Finance Departments, including workers whose unemployment insurance (UI) wages are paid through New Albertsons, Inc., and American Drug Stores LLC, Lanham, Maryland (TA-W-72,251J); SUPERVALU, Inc., IT and Finance Departments, including workers whose unemployment insurance (UI) wages are through New Albertsons, Inc., and American Drug Stores LLC, Las Vegas, Nevada (TA-W-72,251K); SUPERVALU, Inc., IT and Finance Departments, including workers whose unemployment insurance (UI) wages are paid through New Albertsons, Inc., and American Drug Stores LLC, Spokane, Washington (TA-W-72,251L); SUPERVALU, Inc., IT and Finance Departments, including workers whose unemployment insurance (UI) wages are paid through New Albertsons, Inc., and American Drug Stores LLC, Fort Wayne, Indiana (TA-W-72,251M); SUPERVALU, Inc., IT and Finance Departments, including workers whose unemployment insurance (UI) wages are paid through New Albertsons, Inc., and American Drug Stores LLC, West Bridgewater, Massachusetts (TA-W-72,251N), who became totally or partially separated from employment on or after September 2, 2008 through January 15, 2012, and all workers in the group threatened with total or partial separation from employment on the date of certification through two years from the date of certification, are eligible to apply for adjustment assistance under Chapter 2 of Title II of the Trade Act of 1974, as amended.

Signed at Washington, DC, this 10th day of March 2011.
Elliott S. Kushner,
Certifying Officer, Division of Trade Adjustment Assistance.

[FR Doc. 2011-12780 Filed 5-24-11; 8:45 am]

BILLING CODE 4510-FN-P